DEPARTMENT OF INTERIOR

Bureau of Land Management

[16X L1109AF LLUTY0100000 L16100000.DQ0000.LXSS030J0000 24 1A]

Notice of Availability of the Record of Decision for the Moab Master Leasing Plan/Approved Resource Management Plan Amendments for the Moab and Monticello Field Offices, UT

AGENCY: Bureau of Land Management, Interior.

ACTION: Notice.

SUMMARY: The Bureau of Land Management (BLM) announces the availability of the Record of Decision (ROD) for the Moab Master Leasing Plan (MLP)/Approved Resource Management Plan Amendments for the Moab and Monticello Field Offices (Approved Plan). On December 15, 2016, the Utah State Director signed the ROD, which constitutes the final decision of the BLM and makes the Approved Plan effective immediately.

ADDRESSES: Copies of the ROD and Approved Plan are available upon request, and available for public inspection at the following locations:

• Bureau of Land Management, Utah State Office, 440 West 200 South, Suite 500, Salt Lake City, Utah.

• Bureau of Land Management, Moab Field Office, 82 East Dogwood, Moab, Utah.

• Bureau of Land Management, Monticello Field Office, 365 North Main, Monticello, Utah.

The ROD and Approved Plan, together with accompanying background documents, are available online at: http://go.usa.gov/xksyS.

FOR FURTHER INFORMATION CONTACT: Brent Northrup, Project Manager, BLM Moab Field Office, 82 East Dogwood, Moab, UT 84532, telephone 435-259-2151 or email bnorthup@blm.gov. Persons who use a telecommunications device for the deaf (TDD) may call the Federal Relay Service at 1-800-877-8339 to contact the above individual. The Service is available 24 hours a day, 7 days a week, to leave a message or question with the above individual. You will receive a reply during normal business hours.

SUPPLEMENTARY INFORMATION: The Approved Plan is the culmination of a significant effort by the BLM and interested members of the public, community stakeholders, and other local, State, and Federal partners, to provide for responsible mineral development in balance with healthy wildlife habitat, clean air and water, and a vital recreation economy.

The Approved Plan addresses mineral leasing and development on 785,567 acres of BLM-administered land within the Moab and Monticello Field Offices. The Approved Plan amends mineral leasing decisions in portions of the existing Moab and Monticello Resource Management Plans that were completed in 2008.

The Proposed Plan was selected as the Approved Plan because it is the alternative that best balances competing considerations between outdoor recreation, iconic scenery, and development of oil/gas and potash deposits. The Approved Plan allows recreation and mineral extraction to occur in specified areas in order to minimize conflicts with resources.

The Preferred Alternative in the MLP Draft Amendment/Draft Environmental Impact Statement (EIS), with adjustments and clarifications, was carried forward as the Proposed Plan in the MLP/Final EIS released to the public on July 21, 2016. Five protest letters were received during the 30-day protest period on the Proposed Plan, which ended on August 22, 2016. The letters were addressed by the BLM Washington Office. During the Governor's Consistency Review Process, the Governor sent correspondence to the BLM on September 22, 2016, identifying alleged inconsistencies between the Proposed Plan and the State's San Juan County Energy Zone. After reviewing the information submitted, the BLM determined that the Proposed Plan is consistent with the Zone to the maximum extent practical based on the identified resource values. No modifications or corrections were made to the Approved Plan in response to the protest process and the Governor's Consistency Review. The Governor did not appeal the BLM Utah State Director's determination to the BLM Director.

The ROD does not include any implementation actions. The mineral leasing decisions in the Approved Plan are planning-level decisions and therefore are not appealable. Future implementation actions must be in conformance with the management direction in the Approved Plan; any such actions will result from future decisionmaking process(es), including appropriate environmental review.

Authority: 40 CFR 1506.6.

Edwin L. Roberson,
State Director.

[FR Doc. 2016-31743 Filed 12-29-16; 8:45 am]

BILLING CODE 4310-DQ-P